FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 14687N.

Name: BWT WHSE & DIST., Inc.

Address: 2451 United Lane, Elk Grove Village, IL 60007.

Date Revoked: March 29, 2001.

Reason: Failed to maintain a valid bond.

License Number: 4359F.

Name: Chadwick, Vernon Paul.

Address: 5915 Hoover Avenue, Indian Trail, NC 28079.

Date Revoked: October 18, 2000.

Reason: Surrendered license voluntarily.

License Number: 4207F.

Name: Cortina & Roth, Inc.

Address: 8770 SW 72nd Street, #183, Miami, FL 33173.

Date Revoked: April 4, 2001.

Reason: Surrendered license voluntarily.

License Number: 3240F.

Name: Freight Connections International, Ltd.

Address: 935 175th Street, Homewood, IL 60430.

Date Revoked: March 24, 2001.

Reason: Failed to maintain a valid bond.

License Number: 16978F.

Name: International Transportation Services, Inc. d/b/a Itrans.

Address: 18610 S.E. 24th Street, Vancouver, WA 98683.

Date Revoked: April 4, 2001.

Reason: Failed to maintain a valid bond.

License Number: 14011F.

Name: Inverfreight, Inc.

Address: 5901 NW 151st Street, Suite 102, Miami Lakes, FL 33014.

Date Revoked: March 23, 2001.

Reason: Failed to maintain a valid bond.

License Number: 3903N.

Name: Jagro California Inc.

Address: 5777 W. Century Blvd., Suite 800, Los Angeles, CA 90045.

Date Revoked: March 30, 2001.

Reason: Failed to maintain a valid bond.

Sandra L. Kusumoto,
Director, Bureau of Consumer Complaints and Licensing.

[FR Doc. 01-11683 Filed 5-8-01; 8:45 am]

BILLING CODE 6730-01-P